DEPARTMENT OF JUSTICE

Notice of Lodging Proposed Consent Decree

In accordance with Departmental Policy, 28 CFR 50.7, notice is hereby given that a proposed Consent Decree in United States v. Thompson, No. 4:06-cv-549 was lodged with the United States District Court for the District of South Carolina on February 22, 2006.

This proposed Consent Decree concerns a complaint filed by the United States against Jerry Thompson and Virginia Thompson, pursuant to Sections 301 and 404 of the Clean Water Act, 33 U.S.C. 1311 and 1344, to obtain injunctive relief from the defendants for violating the Clean Water Act by discharging pollutants without a permit into waters of the United States. The proposed Consent Decree resolves these allegations by requiring the restoration of the impacted wetlands to their previous condition, the purchase of off-site mitigation credits and the payment of a civil penalty. The Department of Justice will accept written comments relating to this proposed Consent Decree for thirty (30) days from the date of publication of this Notice. Please address comments to R. Emery Clark, Office of the United States Attorney for the District of South Carolina, Wachovia Building, Suite 500, 1441 Main Street, Columbia, South Carolina 29201 and refer to United States v. Thompson, No. 4:06-cv-549.

The proposed Consent Decree may be examined at the Clerk's Office, United States District Court for the District of South Carolina, United States Courthouse, 901 Richland Lane, Columbia, South Carolina. In addition, the proposed Consent Decree may be viewed at http://www.usdoj.gov/fxsp0;enrd/open.html.

Stephen Samuels,
Assistant Chief, Environmental Defense Section, Environment & Natural Resources Division.

[FR Doc. 06-1922 Filed 3-1-06; 8:45 am]

BILLING CODE 4410-15-M